DEPARTMENT OF DEFENSE

Department of the Army; Corps of Engineers

Intent To Prepare a Draft Supplemental Environmental Impact Statement for Mississippi River and Tributaries, Len Small Levee Project, Alexander County, IL

AGENCY: Department of the Army, U.S. Army Corps of Engineers, DoD.

ACTION: Notice of intent.

SUMMARY: The Draft Supplemental Environmental Impact Statement (DSEIS) will supplement the Final Environmental Impact Statement (FEIS) “Mississippi River and Tributaries, Mississippi River Levees and Channel Improvement,” prepared by the U.S. Army Corps of Engineers (USACE), Vicksburg District, dated February 1976. The DSEIS is being prepared in conjunction with a feasibility study, a joint effort between the St. Louis and Memphis districts, to determine the need for federal flood damage reduction and navigation improvements along the Mississippi River between approximate River Miles (RM) 21 and 34 upstream of the Ohio River in Alexander County, IL. The study will also address National Ecosystem Restoration (NER) features.

FOR FURTHER INFORMATION CONTACT: Ms. Tamara Atchley, telephone (314) 331-8044, CEMVS-PM-N, 1222 Spruce Street, St. Louis, MO 63103. Questions regarding the DSEIS may be directed to Ms. Leighann Gipson, telephone (901) 544-4015, CEMVM-PM-E, 167 North Main Street, Room B-202, Memphis, TN 38103.

SUPPLEMENTARY INFORMATION:

1. Proposed Action

The project study consists of determining the need for flood damage reduction and maintaining navigation on the Mississippi River, Alexander County, IL. The area of focus is the Mississippi River from RM 21 to RM 34. The project is authorized under a resolution of the U.S. House of Representatives, Committee on Transportation and Infrastructure adopted March 7, 1996, as well as Section 517 of the Water Resources Development Act (WRDA) of 1996 and the 1928 Flood Control Act (H.R. 8497). Studies involve reevaluation of the project design flood flowline, evaluating alternatives that will not affect navigation, and developing ecosystem restoration features. The Flood Control Act of 1928 and WRDA 1986 authorized the project originally. A final EIS, entitled Mississippi Rivers and Tributaries, Mississippi River Levees (MRL) and Channel Improvement, was prepared by the U.S. Army Corps of Engineers (USACE), Vicksburg District, in February 1976. This document was filed with the Council of Environmental Quality in April 1976. Based on additional environmental laws and regulations enacted after 1976, information from other federal agencies, and litigation by private environmental groups, the decision was made to supplement the 1976 FEIS to cover construction of all remaining Mississippi River mainline levees and seepage control with a supplemental FEIS, Mississippi River Mainline Levees Enlargement and Seepage Control, prepared by USACE, Vicksburg, Memphis, and New Orleans districts, dated July 1998. It covered a total of 225 potential work items along the mainstem of the Mississippi River, which included construction of borrow areas for fill material, levee enlargements, and installation of additional seepage control measures. The resolution by Congress in 1996, the Flood Control Act of 1928, as amended, and WRDA 1996 authorized the present study and reevaluation of the MRL system. The Len Small Levee Project was not included in the 1998 supplemental EIS. It was decided that a separate feasibility study should be conducted because of its complexity. Len Small Levee is a privately owned levee that is being studied because of its effect on the Commerce to Birds Point section of the federal MRL system. Extensive hydraulics and other engineering and environmental analyses are being conducted to evaluate project alternatives.

2. Reasonable Alternatives

Project alternatives are being formulated and analyzed in order to develop an optimal plan. Alternatives to be considered include possible modifications to the MRL system, routing floodwaters across Dogtooth Bend Peninsula, and no federal action. An ecosystem restoration plan is also being developed.

3. The Scoping Process

A public involvement program has been initiated and will be maintained throughout the study. The broad goal is to identify significant issues through an exchange of information on project-related topics. Input will be sought from the public including local residents, agencies, and individuals from the private sector. Federally recognized American Indian tribes and the Illinois State Historic Preservation Officer will be consulted regarding cultural resources in the study area. Status reports will be made to interested parties throughout the study. A public scoping meeting was held on March 18, 2003, in Tamms, IL. Comments and concerns raised at this meeting will be addressed in the study to the extent justified. It is anticipated that a draft SEIS will be available for public review during 2004. It is likely that a workshop will be held prior to release of the draft EIS to gain additional input from interested parties. A public hearing will be held during the draft EIS review period to receive comments and questions concerning the draft report.

Brenda S. Bowen,
Army Federal Register Liaison Officer.

[FR Doc. 04-19825 Filed 8-30-04; 8:45 am]

BILLING CODE 3710-KS-M